U.S. DEPARTMENT OF COMMERCE

Foreign-Trade Zones Board

[Docket 12-2009]

Foreign-Trade Zone 29 - Louisville, KY

Application for Subzone Status

Reynolds Packaging LLC

(Aluminum Foil Liner Stock)

An application has been submitted to the Foreign-Trade Zones Board (the Board) by the Louisville and Jefferson County Riverport Authority, grantee of FTZ 29, requesting special-purpose subzone status for the aluminum foil liner stock manufacturing plant and warehouse of Reynolds Packaging LLC (Reynolds), located in Louisville, Kentucky. The application was submitted pursuant to the provisions of the Foreign-Trade Zones Act, as amended (19 U.S.C. 81a-81u), and the regulations of the Board (15 CFR part 400). It was formally filed on March 25, 2009.

The proposed subzone would include Reynolds' facilities (637 employees) at two sites in the city of Louisville: Site 1 (manufacturing plant/3.63 acres/165,758 sq.ft.) - 1225 West Burnett Avenue; and, Site 2 (warehouse distribution/9.51 acres/614,215 sq.ft.) - 2827 Hale Avenue, located one mile south of Site 1. The manufacturing plant is used to produce aluminum foil liner stock (up to 70 million pounds annually) used in flexible packaging applications for the U.S. market and export. The manufacturing process involves laminating, oven curing, slitting, and packaging. The foreign-origin input used in the activity is aluminum converter foil (7607.11.3000, duty rate: 5.8%), which represents about 25 percent of the value of the finished aluminum foil liner stock. The application indicates that Reynolds would also admit foreign-origin bulk aluminum foil to the proposed subzone to be repackaged and distributed for consumer retail sale in the U.S. market.

FTZ procedures could exempt Reynolds from customs duty payments on the foreign aluminum converter foil used in export production (about 15% of annual shipments). On domestic shipments, the company would be able to elect the duty rate that applies to finished aluminum foil liner stock (duty free) for the foreign aluminum converter foil. Reynolds would also be exempt from duty payments on any aluminum foil for consumer use that becomes scrap or waste during the repackaging activity. The application indicates that the savings from FTZ procedures would help improve the facilities' international competitiveness.

In accordance with the Board's regulations, Pierre Duy of the FTZ Staff is designated examiner to investigate the application and report to the Board.

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is June 1, 2009. Rebuttal comments in response to material submitted during the foregoing period may be submitted during the subsequent 15-day period to [insert 75 days from date of publication].

A copy of the application will be available for public inspection at the Office of the Foreign-Trade Zones Board's Executive Secretary at the address listed above and in the “Reading Room” section of the Board's website, which is accessible via www.trade.gov/ftz. For further information, contact Pierre Duy at: pierre_duy@ita.doc.gov, or (202) 482-1378.

Dated: March 25, 2009.
Andrew McGilvray,
Executive Secretary.

[FR Doc. E9-7441 Filed 4-1-09; 8:45 am]

BILLING CODE 3510-DS-S